DEPARTMENT OF THE INTERIOR

Bureau of Ocean Energy Management, Regulation and Enforcement

Environmental Documents Prepared for Proposed Oil, Gas, and Mineral Operations by the Gulf of Mexico Outer Continental Shelf (OCS) Region

AGENCY: The Bureau of Ocean Energy Management, Regulation and Enforcement, Interior.

ACTION: Notice of the availability of environmental documents prepared for OCS mineral proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 250, New Orleans, Louisiana 70123-2394, or by calling 1-800-200-GULF.

SUPPLEMENTARY INFORMATION: BOEMRE prepares SEAs and FONSIs for proposals that relate to exploration, development, production, and transport of oil, gas, and mineral resources on the Federal OCS. These SEAs examine the potential environmental effects of activities described in the proposals and present BOEMRE conclusions regarding the significance of those effects. Environmental Assessments are used as a basis for determining whether or not approval of the proposals constitutes a major Federal action that significantly affects the quality of the human environment in accordance with NEPA Section 102(2)(C). A FONSI is prepared in those instances where BOEMRE finds that approval will not result in significant effects on the quality of the human environment. The FONSI briefly presents the basis for that finding and includes a summary or copy of the SEA.

This notice constitutes the public notice of availability of environmental documents required under the NEPA Regulations.

Activity/operator | Location | Date
Hunt Oil Company, Structure Removal, SEA ES/SR 11-001 | East Cameron, Block 75, Lease OCS-G 25939, located 20 miles from the nearest Louisiana shoreline | 1/17/2011
Dynamic Offshore Resources, LLC, Structure Removal, SEA ES/SR 11-003, 11-004 & 11-005 | Eugene Island, Block 097, Lease OCS-G 17964, located 35 miles from the nearest Louisiana shoreline | 1/17/2011
ATP Oil & Gas Corporation, Structure Removal, SEA ES/SR 10-188 | Matagorda Island, Block 709, Lease OCS-G 13295, located 27 miles from the nearest Texas shoreline | 1/17/2011
ATP Oil & Gas Corporation, Structure Removal, SEA ES/SR 11-002 | Mobile, Block 959, Lease OCS-G 05759, located 12 miles from the nearest Alabama shoreline | 1/17/2011
Nippon Oil Exploration U.S.A. Limited, Structure Removal, SEA ES/SR 11-008, 11-009 & 11-010 | South Marsh Island, Block 243, Lease OCS-G 04270, located 15 miles from the nearest Louisiana shoreline | 1/17/2011
Energy Resource Technology GOM, Inc., Structure Removal, SEA ES/SR 11-006 | Vermilion, Block 61, Lease OCS-G 22607, located 17 miles from the nearest Louisiana shoreline | 1/17/2011
Nexen Petroleum U.S.A. Inc., Structure Removal, SEA ES/SR 10-195, 10-196, 10-197 & 10-198 | Vermilion, Block 65, Lease OCS-G 03327, located 18 miles from the nearest Louisiana shoreline | 1/17/2011
Nexen Petroleum U.S.A. Inc., Structure Removal, SEA ES/SR 10-199 | Vermilion, Block 66, Lease OCS-04787, located 17 miles from the nearest Louisiana shoreline | 1/17/2011
Nexen Petroleum U.S.A. Inc., Structure Removal, SEA ES/SR 10-200 | Vermilion, Block 66, Lease OCS-G 04787, located 18 miles from the nearest Louisiana shoreline | 1/17/2011
Chevron U.S.A. Inc., Structure Removal, SEA ES/SR 11-011 & 11-012 | West Cameron, Block 48, Lease OCS-G 01351, located 4 miles from the nearest Louisiana shoreline | 1/17/2011
Pisces Energy LLC, Structure Removal, SEA ES/SR 11-015 | High Island, Block A-523, Lease OCS-G 11390, located 91 miles from the nearest Texas shoreline | 1/20/2011
Shell Offshore Inc., Geological & Geophysical Survey, SEA L10-049 | Located in the Central Planning Area of the Gulf of Mexico | 1/20/2011
Mariner Energy Inc, Exploration Plan, SEA R-5062 | Located in the Central Planning Area of the Gulf of Mexico | 1/20/2011
Tesla Offshore, LLC, Geological & Geophysical Survey, SEA L10-042 | Located in the Central Planning Area of the Gulf of Mexico | 1/20/2011
Dynamic Global Advisors Inc., Geological & Geophysical Survey, SEA M10-008 | Located in the Eastern Planning area of the Gulf of Mexico | 1/25/2011
Coastal Technology Corporation, Geological & Geophysical Survey, SEA E10-002, E10-003 & E10-004 | Located on the Atlantic Outer Continental Shelf | 2/1/2011
Chevron U.S.A. Inc., Well Conductor Removal, SEA APM SM217-226 | South Marsh Island, Block 217, Lease OCS 00310, located 12 miles from the nearest Louisiana shoreline | 2/2/2011
Spectrum Geo, Inc., Geological & Geophysical Survey, SEA M10-001, M10-002 & M10-003 | Located in the Eastern, Central and Western Planning Areas of the Gulf of Mexico | 2/2/2011
Energy Resource Technology GOM, Inc., Structure Removal, SEA ES/SR 11-024 & 11-025 | Matagorda Island, Block 604, Lease OCS-G 06037, located 17 miles from the nearest Texas shoreline | 2/3/2011
Energy Resource Technology GOM, Inc., Structure Removal, SEA ES/SR 11-019 | West Cameron, Block 398, Lease OCS-G 22548, located 78 miles from the nearest Louisiana shoreline | 2/3/2011
Energy Resource Technology GOM, Inc., Structure Removal, SEA ES/SR 11-020 | West Cameron, Block 417, Lease OCS-G 22550, located 75 miles from the nearest Louisiana shoreline | 2/3/2011
Energy Resource Technology GOM, Inc., Structure Removal, SEA ES/SR 11-023 | Brazos, Block 453, Lease OCS-G 04713, located 15 miles from the nearest Texas shoreline | 2/4/2011
Mariner Energy, Inc., Structure Removal, SEA ES/SR 11-031 | Matagorda Island, Block 565, Lease OCS-G 18885, located 13 miles from the nearest Texas shoreline | 2/8/2011
Fugro Multi Client Services, Inc., Geological & Geophysical Survey, SEA M10-005 | Located in the Eastern Planning Area of the Gulf of Mexico | 2/16/2011
EMGS Americas Inc., Geological & Geophysical Survey, SEA T10-006 | Located in the Western Planning Area of GOM south of Texas, within the Alaminos Canyon Area | 2/16/2011
Energy Resource Technology GOM, Inc., Structure Removal, SEA ES/SR 11-007 | Matagorda Island, Block 604, Lease OCS-G 06037, located 17 miles from the nearest Texas shoreline | 2/24/2011
Apache Corporation, Structure Removal, SEA ES/SR 11-036 | Matagorda Island, Block 696, Lease OCS-G 04704, located 14 miles from the nearest Texas shoreline | 2/24/2011
Energy Resource Technology GOM, Inc., Structure Removal, SEA ES/SR 11-021 | West Cameron, Block 416, Lease OCS-G 23770, located 41 miles from the nearest Louisiana shoreline | 2/24/2011
Apache Corporation, Structure Removal, SEA ES/SR 11-041 | Eugene Island, Block 175, Lease OCS 00438, located 43 miles from the nearest Louisiana shoreline | 2/25/2011
Apache Corporation, Structure Removal, SEA ES/SR 11-042 | Eugene Island, Block 224, Lease OCS-G 05504, located 67 miles from the nearest Louisiana shoreline | 2/25/2011
Millennium Offshore Group, Inc., Structure Removal, SEA ES/SR 11-038 | High Island, Block 53, Lease OCS-G 20658, located 20 miles from the nearest Louisiana shoreline | 2/25/2011
Unocal Pipeline Company, Structure Removal, SEA ES/SR 11-035 | Ship Shoal, Block 208, Right-of-Way (ROW)-G 01691, located 34 miles from the nearest Louisiana shoreline | 2/25/2011
Nippon Oil Exploration U.S.A. Limited, Structure Removal, SEA ES/SR 11-018 | South Timbalier, Block 186, Lease OCS-G 15323, located 35 miles from the nearest Louisiana shoreline | 2/25/2011
Energy Resource Technology GOM, Inc., Structure Removal, SEA ES/SR 11-022 | Brazos, Block 436, Lease OCS-G 04258, located 14 miles from the nearest Texas shoreline | 3/1/2011
Apache Corporation, Structure Removal, SEA ES/SR 11-037 | Mustang Island, Block 762, Lease OCS-G 03021, located 33 miles from the nearest Texas shoreline | 3/1/2011
Fairways Offshore Exploration, Inc., Structure Removal, SEA ES/SR 11-029 & 11-030 | Chandeleur, Block 29, Lease OCS-G 05740, located 13 miles from the nearest Louisiana shoreline | 3/2/2011
Chevron U.S.A. Inc., Structure Removal, SEA ES/SR 11-028 | South Marsh Island, Block 217, Lease 00310, located 15 miles from the nearest Louisiana shoreline | 3/2/2011
Maritech Resources, Inc., Structure Removal, SEA ES/SR 11-057 | Eugene Island, Block 116, Lease OCS 00478, located 30 miles from the nearest Louisiana shoreline | 3/3/2011
Maritech Resources, Inc., Structure Removal, SEA ES/SR 11-055 & 11-056 | Eugene Island, Block 129, Lease OCS-G 30029, located 38 miles from the nearest Louisiana shoreline | 3/3/2011
Apache Corporation, Structure Removal, SEA ES/SR 11-043 | Eugene Island, Block 158, Lease OCS-G 01220, located 40 miles from the nearest Louisiana shoreline | 3/3/2011
Mariner Energy, Inc., Structure Removal, SEA ES/SR 11-044 | High Island, Block A 415, Lease OCS-G 15793, located 70 miles from the nearest Louisiana shoreline | 3/3/2011
Apache Corporation, Structure Removal, SEA ES/SR 11-045 | South Marsh Island, Block 71, Lease OCS-G 11911, located 72 miles from the nearest Louisiana shoreline | 3/3/2011
Energy Partners, Ltd., Structure Removal, SEA ES/SR 11-048 & 11-049 | West Cameron, Block 252, Lease OCS-G 27793, located 51 miles from the nearest Louisiana shoreline | 3/3/2011
Maritech Resources, Inc., Structure Removal, SEA ES/SR 11-052 | Eugene Island, Block 129, Lease OCS-G 30029, located 38 miles from the nearest Louisiana shoreline | 3/4/2011
Maritech Resources, Inc., Structure Removal, SEA ES/SR 11-053 & 11-054 | Eugene Island, Block 129, Lease OCS-G 30029, located 38 miles from the nearest Louisiana shoreline | 3/4/2011
Century Exploration New Orleans, Inc., Structure Removal, SEA ES/SR 11-046 | West Cameron, Block 369, Lease OCS-G 22544, located 63 miles from the nearest Louisiana shoreline | 3/4/2011
Stone Energy Corporation, Structure Removal, SEA ES/SR 11-051 | Eugene Island, Block 243, Lease OCS-G 02899, located 48 miles from the nearest Louisiana shoreline | 3/7/2011
Rosetta Resources Offshore, LLC, Structure Removal, SEA ES/SR 11-066 | East Cameron, Block 89, Lease OCS-G 00935, located 23 miles from the nearest Louisiana shoreline | 3/9/2011
Energy Resource Technology GOM, Inc., Structure Removal, SEA ES/SR 11-027 | Vermilion, Block 100, Lease OCS-G 22616, located 20 miles from the nearest Louisiana shoreline | 3/9/2011
Bandon Oil and Gas, LP, Structure Removal, SEA ES/SR 11-032 & 11-033 | High Island, Block A-517, Lease OCS-G 03481, located 88 miles from the nearest Texas shoreline | 3/10/2011
Rosetta Resources Offshore, LLC, Structure Removal, SEA ES/SR 11-063, 11-064 & 11-065 | East Cameron, Block 89, Lease OCS-G 00935, located 23 miles from the nearest Louisiana shoreline | 3/11/2011
Rosetta Resources Offshore, LLC, Structure Removal, SEA ES/SR 11-061 & 11-062 | East Cameron, Block 88, Lease OCS-G 14357, located 24 miles from the nearest Louisiana shoreline | 3/16/2011
Apache Corporation, Structure Removal, SEA ES/SR 11-071 | North Padre Island, Block 892, Lease RUE OCS-G 22003, located 31 miles from the nearest Texas shoreline | 3/18/2011
Shell Offshore Inc., Exploration Plan, SEA S-7445 | Located in the Central Planning Area of the Gulf of Mexico | 3/21/2011
Rosetta Resources Offshore, LLC, Structure Removal, SEA ES/SR 11-060 | South Pelto, Block 17, Lease OCS-G 14533, located 18 miles from the nearest Louisiana shoreline | 3/24/2011
Sojitz Energy Venture, Inc., Structure Removal, SEA ES/SR 11-077 | Vermilion, Block 70, Lease OCS-G 22609, located 15 miles from the nearest Louisiana shoreline | 3/24/2011
WesternGeco, Geological & Geophysical Survey, SEA L10-045 | Located in the Central Planning Area of the Gulf of Mexico | 3/24/2011
WesternGeco, Geological & Geophysical Survey, SEA L11-006 | Located in the Central Planning Area of the Gulf of Mexico | 3/25/2011
XTO Offshore Inc., Structure Removal, SEA ES/SR 06-69A & 06-070A | Brazos, Block 415, Lease OCS-G 23162, located 25 miles from the nearest Texas shoreline | 3/28/2011
Seneca Resources Corporation, Structure Removal, SEA ES/SR 11-067 | Eugene Island, Block 271, Lease OCS-G 15257, located 78 miles from the nearest Louisiana shoreline | 3/28/2011
Noble Energy, Inc., Structure Removal, SEA ES/SR 11-069 & 11-070 | Brazos, Block A52, Lease OCS-G 6085, located 51 miles from the nearest Texas shoreline | 3/29/2011
Chevron U.S.A. Inc., Structure Removal, SEA ES/SR 11-080 | Grand Isle, Block 37, Lease OCS-G 00392, located 7 miles from the nearest Louisiana shoreline | 3/29/2011
Nippon Oil Exploration U.S.A. Limited, Structure Removal, SEA ES/SR 11-017 | South Marsh Island, Block 244, Lease OCS-G 02596, located 15 miles from the nearest Louisiana shoreline | 3/29/2011
McMoRan Oil & Gas LLC, Structure Removal, SEA ES/SR 11-073 & 11-074 | Eugene Island, Block 202, Lease OCS-G 04599, located 54 miles from the nearest Louisiana shoreline | 3/30/2011
XTO Offshore Inc., Structure Removal, SEA ES/SR 11-072 | Matagorda Island, Block 631, Lease OCS-G 14792, located 18 miles from the nearest Texas shoreline | 3/30/2011
Apache Corporation, Structure Removal, SEA ES/SR 11-081 & 95-070A | Eugene Island, Block 128, Lease OCS 00053, located 30 miles from the nearest Louisiana shoreline | 3/31/2011
Chevron U.S.A. Inc., Structure Removal, SEA ES/SR 11-078 & 11-079 | Grand Isle, Block 037, Lease OCS 00392, located 7 miles from the nearest Louisiana shoreline | 3/31/2011

Persons interested in reviewing environmental documents for the proposals listed above or obtaining information about SEAs and FONSIs prepared by the Gulf of Mexico OCS Region are encouraged to contact BOEMRE at the address or telephone listed in the FOR FURTHER INFORMATION CONTACT section.

Dated: May 31, 2011
Lars Herbst,
Regional Director, Gulf of Mexico OCS Region.

[FR Doc. 2011-16560 Filed 6-30-11; 8:45 am]

BILLING CODE 4310-MR-P